FEDERAL MARITIME COMMISSION

Ocean Transportation Intermediary License; Correction

In the Federal Register Notice published October 6, 2004 (69 FR 59928) the reference to Waterline Pakistan (PVT) Ltd. is corrected to read: “Waterlink Pakistan (PVT) Ltd.”

Dated: October 15, 2004.
Bryant L. VanBrakle,
Secretary.

[FR Doc. 04-23473 Filed 10-19-04; 8:45 am]

BILLING CODE 6730-01-P